ENVIRONMENTAL PROTECTION AGENCY

40 CFR Parts 52 and 81

[EPA-R05-OAR-2021-0949; FRL-9532-03-R5]

Air Plan Approval; Ohio; Redesignation of the Ohio portion of the Cincinnati, Ohio-Kentucky Area to Attainment of the 2015 Ozone Standard; Correction

AGENCY: Environmental Protection Agency (EPA).

ACTION: Final rule; correction.

SUMMARY: This action corrects an error in a table posted in the June 9, 2022, rule redesignating the Ohio portion of the Cincinnati, Ohio-Kentucky area to attainment of the 2015 ozone National Ambient Air Quality Standard (NAAQS). The table contained motor vehicle emissions budgets (Budgets) for volatile organic compounds (VOC) and oxides of nitrogen (NOX) for the Ohio portion of the Cincinnati OH-KY area. The Budgets table in that action conflicts with the Budgets submitted by Ohio and set forth in the proposed rule. Therefore, EPA is correcting the erroneous table.

DATES: This correction is effective on January 30, 2023.

ADDRESSES: EPA has established a docket for this action under Docket ID No. EPA-R05-OAR-2021-0949. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Olivia Davidson, Environmental Scientist, at (312) 886-0266 before visiting the Region 5 office.

FOR FURTHER INFORMATION CONTACT: Olivia Davidson, Environmental Scientist, Attainment Planning and Maintenance Section, Air Programs Branch (AR-18J), Environmental Protection Agency, Region 5, 77 West Jackson Boulevard, Chicago, Illinois 60604, (312) 886-0266, davidson.olivia@epa.gov.

SUPPLEMENTARY INFORMATION: EPA published a final rule redesignating the Ohio portion of the Cincinnati area to attainment of the 2015 ozone NAAQS on June 9, 2022 (87 FR 35104). That rule also approved VOC and NOX Budgets for the Ohio portion of the Cincinnati area for transportation conformity purposes. In that rule, EPA erroneously identified the 2015 ozone Budgets as 14.15 and 10.58 tons per day (tpd) for NOX in 2026 and 2035, respectively, and 25.30 and 18.98 tpd for VOC in 2026 and 2035, respectively. The table in that action conflicts with the Budgets submitted by Ohio and set forth in the proposed rule. The Budgets submitted by Ohio are 14.15 and 10.58 tpd for VOC in 2026 and 2035, and 25.30 and 18.98 tpd in 2026 and 2035 for NOX. Therefore, the table is being revised to reflect the correct Budgets.

Section 553 of the Administrative Procedure Act, 5 U.S.C. 553(b)(B), provides that, when an agency for good cause finds that notice and public procedure are impracticable, unnecessary or contrary to the public interest, the agency may issue a rule without providing notice and an opportunity for public comment. We have determined that there is good cause for making this rule final without prior proposal and opportunity for comment because we are merely correcting an incorrect citation in a previous action. Thus, notice and public procedure are unnecessary. We find that this constitutes good cause under 5 U.S.C. 553(b)(B).

Statutory and Executive Order Reviews

This action is not a significant regulatory action subject to review by the Office of Management and Budget under Executive Orders (E.O.s) 12866 (58 FR 51735, October 4, 1993) and 13563 (76 FR 3821, January 21, 2011). This action does not impose an information collection burden under the Paperwork Reduction Act of 1995 (44 U.S.C. 3501 et seq.). Because the agency has made a “good cause” finding that this action is not subject to notice-and-comment requirements under the Administrative Procedures Act or any other statute as indicated in the section above, it is not subject to the regulatory flexibility provisions of the Regulatory Flexibility Act (5 U.S.C 601 et seq.), or to sections 202 and 205 of the Unfunded Mandates Reform Act of 1995 (UMRA) (Pub. L. 104-4). This action will not have substantial direct effects on the States, on the relationship between the National Government and the States, or on the distribution of power and responsibilities among the various levels of governments, as specified by E.O. 13132 (64 FR 43255, August 10, 1999). In addition, the State Implementation Plan (SIP) is not approved to apply on any Indian reservation land or in any other area where EPA or an Indian tribe has demonstrated that a tribe has jurisdiction. In those areas of Indian country, the rule does not have tribal implications and will not impose substantial direct costs on tribal governments or preempt tribal law as specified by E.O. 13175 (65 FR 67249, November 9, 2000). This action is not subject to E.O. 13045 (62 FR 19885, April 23, 1997), because it is not economically significant. This action is also not subject to E.O. 13211, “Actions Concerning Regulations That Significantly Affect Energy Supply, Distribution, or Use” (66 FR 28355, May 22, 2001). This technical correction action does not involve technical standards; thus the requirements of section 12(d) of the National Technology Transfer and Advancement Act of 1995 (15 U.S.C. 272 note) do not apply. The action also does not involve special consideration of environmental justice related issues as required by E.O. 12898 (59 FR 7629, February 16, 1994).

This action is subject to the Congressional Review Act (CRA), and EPA will submit a rule report to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of January 30, 2023. This correction to 40 CFR 52 for Ohio is not a “major rule” as defined by 5 U.S.C. 804(2).

Correction

In FR Doc. 2022-12318, published in the Federal Register on June 9, 2022 (87 FR 35104), on page 35108, in first column, the table entitled “Table 2—2026 and 2035 Budgets for the Ohio Portion for the 2015 Ozone NAAQS Maintenance Area [Tons per summer day, TPSD]” is corrected to read:

Table 2—2026 and 2035 Budgets for the Ohio Portion for the 2015 Ozone NAAQS Maintenance Area
[Tons per summer day, TPSD]
Pollutant | 2026 Budget | 2035 Budget
NOX | 25.30 | 18.98
VOC | 14.15 | 10.58

Dated: January 19, 2023.
Debra Shore,
Regional Administrator, Region 5.

[FR Doc. 2023-01505 Filed 1-27-23; 8:45 am]

BILLING CODE 6560-50-P